DEPARTMENT OF THE INTERIOR

Bureau of Land Management

[OR-014-01-1430-EU; HAG-01-0083]

Notice of Direct Sale of Public Lands in Klamath County, OR (OR 56319)

AGENCY: Bureau of Land Management, Interior.

ACTION: Notice of direct sale of public lands in Klamath County, Oregon (OR 56319).

SUMMARY: The following land has been found suitable and is classified for direct sale under Section 203 and 209 of the Federal Land Policy and Management Act of 1976, 43 U.S.C. 1713 and 43 U.S.C. 1719, and Section 7 of the Taylor Grazing (43 U.S.C. 315f). The land will be sold at no less than the fair market value of $5,600.00. The land will not be offered for sale until at least 60 days after this notice.

Willamette Meridian, T. 40 S., R. 11 E.

Section 23 SW¼SE¼

Section 26 NW¼NE¼.

Containing approximately 80 acres.

The above described land is hereby segregated from appropriation under the public land laws, including the mining laws, but not from sale under the above cited statutes, for 270 days or until title transfer is completed or the segregation is terminated by publication in the Federal Register, which ever occurs first.

This land is difficult and uneconomic to manage as part of the public lands and is not suitable for management by another Federal agency. No significant resource values will be affected by this disposal. The sale is consistent with BLM's planning for the land involved and the public interest will be served by the sale.

Purchasers must be U.S. citizens, 18 years of age or older, a state or state instrumentality authorized to hold property, or a corporation authorized to own real estate in the state in which the land is located.

The lands are being offered to Carl Rajnus using the direct sale procedures authorized under 43 CFR 2743.3-3. Direct sale is appropriate because there is no public access to the public lands and the public lands are surrounded by lands owned by Carl Rajnus.

The terms, conditions, and reservations applicable to this sale are as follows:

1. A right-of-way for ditches and canals will be reserved to the United States in under 43 U.S.C. 945.

2. All oil and gas and geothermal resources in the land will be reserved to the United States in accordance with Section 209 of the Federal Land Policy and Management Act of 1976.

3. The mineral interests being offered for conveyance have no known mineral value. The acceptance of a direct sale offer will constitute an application for conveyance of the mineral estate, with the exception of the oil and gas and geothermal interests which will be reserved to the United States in accordance with Section 209 of the Federal Land Policy and Management Act of 1976.

4. Patents will be issued subject to all valid existing rights and reservations of record.

If land identified in this notice is not sold it will be offered competitively on a continuing basis until sold.

Detailed information concerning the sale, including the reservations, sale procedures, and planning and environmental documents, is available at the Klamath Falls Field Office 2795 Anderson Ave. Building 25 Klamath Falls, OR 97603.

For a period of 45 days from the date of publication of this notice in the Federal Register, interested parties may submit comments to the Field Manager, Klamath Falls Resource Area Office at the above address. Objections will be reviewed by the District Manager who may sustain, vacate, or modify this realty action. In absence of any objections, this realty action will become the final action of the Department of the Interior. Questions should be directed to Tom Cottingham at the above address or by phone at 541/885-4141.

Dated: February 2, 2001.
Steven A. Ellis,
District Manager, Lakeview District.

[FR Doc. 01-3796 Filed 2-14-01; 8:45 am]

BILLING CODE 4310-33-P